NATIONAL CAPITAL PLANNING COMMISSION

Notice of Final Adoption and Effective Date for Updates to the Submission Guidelines

AGENCY: National Capital Planning Commission.

ACTION: Notice of final adoption and effective date.

SUMMARY: The National Capital Planning Commission (NCPC) adopted updates to the Submission Guidelines on January 8, 2026. Agencies that are subject to plan and project review submit development proposals to the Commission by following the process laid out in the Submission Guidelines. The Submission Guidelines are available online at: https://www.ncpc.gov/review/guidelines/.

DATES: The revised Introduction Chapter will become effective February 12, 2026.

FOR FURTHER INFORMATION CONTACT: Email submission@ncpc.gov.

Authority: 40 U.S.C. 8721(a).

Dated: January 8, 2026.
Meghan Hottel-Cox,
General Counsel and Secretariat, National Capital Planning Commission.

[FR Doc. 2026-00475 Filed 1-12-26; 8:45 am]

BILLING CODE 7502-02-P